DEPARTMENT OF COMMERCE

Patent and Trademark Office

[Docket No. PTO-T-2023-0037]

Requiring Identity Verification for Attorney-Sponsored Accounts

AGENCY: United States Patent and Trademark Office, U.S. Department of Commerce.

ACTION: Notice.

SUMMARY: The United States Patent and Trademark Office (USPTO) announces that beginning on January 20, 2024, all existing and new attorney support staff with an attorney-sponsored USPTO.gov account will be required to verify their identity to access trademark filing systems. The USPTO is making this change after discovering that some U.S.-licensed attorneys have sponsored accounts for individuals who are not directly supervised attorney support staff, and that many of these sponsored accounts appear to be shared by multiple foreign agents and attorneys. These actions violate the Trademark Verified USPTO.gov Account Agreement (Agreement).

FOR FURTHER INFORMATION CONTACT: Robert Lavache, Office of the Deputy Commissioner for Trademark Examination Policy, USPTO, at 571-272-5881. You can also send inquiries to TMFRNotices@uspto.gov.

SUPPLEMENTARY INFORMATION: In late 2019, as part of the USPTO's continuing efforts to protect the integrity of the U.S. trademark register, and to better protect its customers from scams and other fraudulent activities related to the trademark register, the USPTO began requiring customers to create a USPTO.gov account to access and submit electronic trademark forms. This enabled the USPTO to monitor trademark filing behavior and aided in enforcing the USPTO Trademark Rules of Practice regarding submissions in trademark matters. On August 6, 2022, the USPTO began requiring existing and new account holders who occupy one of the appropriate user roles, including owner, U.S.-licensed attorney, Canadian attorney, or Canadian agent, to verify their identity. See Trademarks USPTO.gov Account ID Verification Program (87 FR 41114). The USPTO also offered a user role for sponsored attorney support staff to establish USPTO.gov accounts when sponsored by a supervising U.S.-licensed (or a reciprocally recognized Canadian) attorney, and at the time did not require identity verification for sponsored support staff accounts. See 87 FR 41114.

Since establishing the sponsored staff user roles, the USPTO has discovered that some U.S.-licensed attorneys have sponsored accounts for individuals who are not directly supervised attorney support staff, which violates the Agreement that applies to all USPTO.gov account holders. Many of these sponsored accounts appear to be used by multiple foreign agents and attorneys who file thousands of trademark applications involving violations of the USPTO's Trademark Rules of Practice, including the rules on signatures and certifications. Because the sponsored account user role has been subject to abuse that has undermined the integrity of the trademark register and such abuse can be significantly curtailed by requiring identity verification of sponsored account holders, the USPTO will now require all existing and new attorney support staff who are USPTO.gov account holders to verify their identity. On October 14, 2023, the USPTO will make identity verification available to attorney support staff account holders. It will become mandatory for such account holders on January 20, 2024. Requiring identity verification of sponsored accounts will help enforce the “one person, one account” rule, better enable the USPTO to restrict non-attorneys from submitting trademark filings, and prevent rule violations by filing entities and other unauthorized users. It will also allow the USPTO to better track and eliminate the use of sponsored accounts created for unsupervised use by non-attorney entities.

Trademark applicants and registrants, or their attorneys and support staff, must register for and use a USPTO.gov account to access and submit trademark application and maintenance filings with the USPTO. Users of a USPTO.gov account and any other USPTO web page or system are required to comply with the Terms of Use for USPTO web pages. Further, to file trademark documents electronically, users must have their identities verified, and are further bound by the Agreement. A verified account can only be connected to one USPTO.gov trademark account.

Once qualified U.S.-licensed attorneys have a trademark verified USPTO.gov account, they may sponsor the USPTO.gov accounts of directly supervised support staff. Attorneys who abuse the terms of sponsorship may have their sponsorship privileges—and potentially their own verified accounts—revoked. However, under the current system, support staff can simply create new accounts using unverified information and seek attorney sponsorship again, sometimes by the same attorney. Requiring identity verification of sponsored accounts will allow the USPTO to consistently enforce the Agreement and ensure that a user of a sponsored account cannot create multiple accounts or create a new account and again be sponsored.

The following examples demonstrate the impact of the problems caused by the inappropriate use of sponsored accounts. In one instance of abuse, an attorney sponsored more than 30 different accounts used by individuals not under their direct supervision, and perhaps not even personally known to the attorney. In another example, an attorney sponsored multiple accounts for use by non-attorney trademark preparation or filing entities, which are not authorized to practice law, file submissions for clients, or represent parties before the USPTO in trademark matters. Several of these accounts have also been connected to known scams that have defrauded many trademark applicants. Each of these behaviors violates the terms of the Agreement to which each of these attorneys consented. In addition, some law firms are creating institutional accounts that appear to be intended for use by multiple people under generic names such as “Admin Support.” This practice impedes the ability of the USPTO to maintain an accurate filing history and violates the Agreement, even if no improper activities are intended.

Under the revised procedures, both existing and new sponsored attorney support staff USPTO.gov account holders will need to verify their identity, using either the electronic or paper process, to access the Trademark Electronic Application System (TEAS). Identity verification will become available on October 14, 2023, for attorney support staff account holders to verify their identities. Existing unverified sponsored attorney support staff USPTO.gov accounts will remain active, but will not be able to be used to access or submit trademark forms beginning on January 20, 2024, when identity verification will become mandatory for all users. As of January 20, 2024, only verified account holders will be able to access and submit trademark forms.

The USPTO reminds attorneys that 37 CFR 11.503 establishes duties with respect to the supervision of non-practitioner assistants, and 37 CFR 11.505 forbids a practitioner from assisting in the unauthorized practice of law.

Katherine K. Vidal,
Under Secretary of Commerce for Intellectual Property and Director of the United States Patent and Trademark Office.

[FR Doc. 2023-19000 Filed 9-1-23; 8:45 am]

BILLING CODE 3510-16-P